DEPARTMENT OF VETERANS AFFAIRS

[OMB Control No. 2900-0171]

Agency Information Collection Activity Under OMB Review: Application for Individualized Tutorial Assistance

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0171.”

FOR FURTHER INFORMATION CONTACT: VA PRA information: 202-461-8900, vacopaperworkreduact@va.gov.

SUPPLEMENTARY INFORMATION:

Title: Application for Individualized Tutorial Assistance, VA Form 22-1990t.

OMB Control Number: 2900-0171, https://www.reginfo.gov/public/do/PRASearch.

Type of Review: Revision of a currently approved collection.

Abstract: The VA uses the information collected to determine eligibility and payment for tutorial assistance. Without the information on this form, VA would be unable to determine the applicant's eligibility for tutorial assistance.

An agency may not conduct or sponsor, and a person is not required to respond to a collection of information unless it displays a currently valid OMB control number. The Federal Register Notice with a 60-day comment period soliciting comments on this collection of information was published at 89 FR 79366, September 27, 2024.

Affected Public: Educational Institutions.

Estimated Annual Burden: 51 hours.

Estimated Average Burden per Respondent: 30 minutes.

Frequency of Response: Once annually.

Estimated Number of Respondents: 102.

Authority: 44 U.S.C. 3501 et seq.

Dorothy Glasgow,
VA PRA Clearance Officer, (Alt.) Office of Enterprise and Integration, Data Governance Analytics, Department of Veterans Affairs.

[FR Doc. 2024-28192 Filed 11-29-24; 8:45 am]

BILLING CODE 8320-01-P